DEPARTMENT OF COMMERCE

International Trade Administration

[A-549-813]

Notice of Amended Final Results of Seventh Administrative Review: Canned Pineapple Fruit From Thailand

AGENCY: Import Administration, International Trade Administration, Department of Commerce.

EFFECTIVE DATE: December 31, 2003.

FOR FURTHER INFORMATION CONTACT: Marin Weaver or Charles Riggle, Group II, Office 5, Import Administration, International Trade Administration, U.S. Department of Commerce, 14th Street and Constitution Avenue, NW., Washington, DC 20230; telephone: (202) 482-2336, (202) 482-0650, respectively.

Scope of Order

The product covered by this order is canned pineapple fruit (CPF). CPF is defined as pineapple processed and/or prepared into various product forms, including rings, pieces, chunks, tidbits, and crushed pineapple, that is packed and cooked in metal cans with either pineapple juice or sugar syrup added. CPF is currently classifiable under subheadings 2008.20.0010 and 2008.20.0090 of the Harmonized Tariff Schedule of the United States (HTSUS). HTSUS 2008.20.0010 covers CPF packed in a sugar-based syrup; HTSUS 2008.20.0090 covers CPF packed without added sugar (i.e., juice-packed). Although these HTSUS subheadings are provided for convenience and for customs purposes, our written description of the scope is dispositive.

Amended Final Determination

In accordance with section 751(a) the Tariff Act of 1930, as amended, (the Act), on November 19, 2003, the Department published its final results of the antidumping duty administrative review of CPF from Thailand (Notice of Final Results of Antidumping Duty Administrative Review, Rescission of Administrative Review in Part, and Final Determination to Revoke Order in Part: Canned Pineapple Fruit from Thailand, 68 FR 65247, (Final Results)).

1. Vita Food Factory (1989) Co., Ltd. (Vita)

On November 20, 2003, Vita alleged that a ministerial error had been made regarding the Department's final margin calculation. See Ministerial Error Letter from Vita Re: Canned Pineapple Fruit from Thailand: The Seventh Administrative Review for period of July 1, 2001 to June 30, 2002 (November 20, 2003). In accordance with section 751(h) of the Act, we have determined that a ministerial error was made in determining the calculation of Vita's variable overhead cost factor. See Memorandum to Holly Kuga; Subject: Seventh Administrative Review of Canned Pineapple Fruit from Thailand RE: Ministerial Error Allegation Vita Food Factory Ltd. (December 17, 2003). Pursuant to section 751(h) of the Act, we have corrected the error and are amending the final results of review accordingly. The corrected margin for Vita is 1.77 percent. See the Memorandum from Monica Gallardo to the File, Revised Analysis Memorandum for Vita Food Factory Ltd. Re: Amended Final Results of Seventh Administrative Review of Canned Pineapple Fruit from Thailand (December 17, 2003).

2. Dole Food Company, Inc., Dole Packaged Foods Company, and Dole Thailand, Ltd.'s (collectively, Dole)

In addition, on November 20, 2003, we received timely ministerial error allegations from Maui Pineapple Company and the International Longshoremen's and Warehousemen's Union (the petitioners) regarding Dole. We have determined that the petitioners' allegations with regard to Dole do not constitute ministerial errors as defined by section 351.224(f) of the Department's regulations. See Memorandum to Holly Kuga; Subject: Seventh Administrative Review of Canned Pineapple Fruit from Thailand RE: Ministerial Error Allegations for Dole Food Company, Inc., Dole Packaged Foods Company, and Dole Thailand, Ltd.'s (December 17, 2003).

The Department shall determine, and the U.S. Customs and Border Protection shall assess, antidumping duties on all appropriate entries based on the amended final results. For details on the assessment of antidumping duties on all appropriate entries, see Final Results.

Dated: December 17, 2003.
James J. Jochum,
Assistant Secretary for Import Administration.

[FR Doc. 03-32226 Filed 12-30-03; 8:45 am]

BILLING CODE 3510-DS-P